DEPARTMENT OF ENERGY

Environmental Management Site-Specific Advisory Board, Northern New Mexico

AGENCY: Department of Energy.

ACTION: Notice of open meeting and retreat.

SUMMARY: This notice announces a meeting of the Environmental Management Site-Specific Advisory Board (EM SSAB), Northern New Mexico. The Federal Advisory Committee Act (Pub. L. 92-463, 86 Stat. 770) requires that public notice of this meeting be announced in the Federal Register.

DATES: Friday, May 19, 2006, 8 a.m.-5 p.m. Saturday, May 20, 2006, 8 a.m.-12 p.m.

ADDRESSES: Sagebrush Inn and Conference Center, 1508 Paseo Del Pueblo Sur, Taos, New Mexico.

FOR FURTHER INFORMATION CONTACT: Menice Santistevan, Northern New Mexico Citizens' Advisory Board, 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda for Retreat

Friday, May 19, 2006

8 a.m. Welcome and Introductions by Chair, J.D. Campbell

8:10 a.m. Board Discussion—How does the Northern New Mexico Citizens' Advisory Board (NNMCAB) engage all members in Committee and Board discussions and tasks?

9 a.m. Break

9:15 a.m. Board Discussion—How does the NNMCAB determine Board member satisfaction, Department of Energy (DOE) satisfaction and community satisfaction?

10 a.m. Break

10:15 a.m. Ad Hoc Committee on Bylaws and Administrative Procedures, Donald Jordan

A. Is the Board Meeting Agenda too long? Should the NNMCAB modify any part of it?

B. Are Committee Meetings long enough to complete the work of each committee it is charged with?

C. Discussion regarding proposed Amendments to the NNMCAB Bylaws.

D. Discussion regarding proposed Amendments to existing Administrative Procedures.

E. Introduction of new Administrative Procedures

12 p.m. Lunch Break

1 p.m. NNMCAB Performance Measures—One to Five-Year (FY) Plan by Deputy Designated Federal Officer (DDFO), Christina Houston

1:30 p.m. Interaction with Ex-Officio Members—Issues for Consideration in Fiscal Year 2007

A. New Mexico Environment Department—James Bearzi

B. DOE Los Alamos Site Office—Gene Rodriguez

C. Los Alamos National Laboratory—Ken Hargis

D. U.S. Environmental Protection Agency—Rich Mayer

2:30 p.m. Brief Overview of Los Alamos National Security, LLC.—Andy Phelps

2:45 p.m. Break

3 p.m. Break-out Session by Committee

A. Review FY 2006 Work Plan Accomplishments

B. Begin FY 2007 Work Plans

4:30 p.m. Executive Committee Meeting—Retreat Overview

5 p.m. Adjourn

Tentative Agenda for Open Meeting

Saturday, May 20, 2006

9 a.m. Call to Order by DDFO, Christina Houston

Establishment of a Quorum

A. Roll Call

B. Excused Absences

Welcome and Introductions by Chair, J.D. Campbell

Approval of Agenda

Approval of Minutes of March 29, 2006 Board Meeting

9:15 a.m. Board Business/Reports

A. Old Business, Chair, J.D. Campbell

B. Report from Chair, J.D. Campbell

C. Report from DOE, Christina Houston

D. Report from Executive Director, Menice B. Santistevan

E. Other Issues, Board Members New Business, Board Members

10 a.m. Public Comment

10:10 a.m. Consideration and Action on Proposed Recommendations to DOE

10:15 a.m. Break

10:30 a.m. Committee Business—Present Draft FY 2007 Work Plans

A. Community Involvement Committee, Grace Perez

B. Environmental Monitoring, Surveillance and Remediation Committee, Chris Timm

C. Waste Management Committee, Donald Jordan

D. Proposed Bylaws Amendments (1st Reading), Donald Jordan

11:45 a.m. Comments from Board Members

11:55 a.m. Recap of Meeting: Issuance of Press Releases, Editorials, etc., J.D. Campbell

12 p.m. Adjourn, Christina Houston

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes of this meeting will be available for public review and copying at the U.S. Department of Energy's Freedom of Information Public Reading Room, 1E-190, Forrestal Building, 1000 Independence Avenue, SW., Washington, DC 20585 between 9 a.m. and 4 p.m., Monday-Friday, except Federal holidays. Minutes will also be available at the Public Reading Room located at the Board's office at 1660 Old Pecos Trail, Suite B, Santa Fe, NM. Hours of operation for the Public Reading Room are 9 a.m.-4 p.m. on Monday through Friday.

Minutes will also be made available by writing or calling Menice Santistevan at the Board's office address or telephone number listed above. Minutes and other Board documents are on the Internet at: http://www.nnmcab.org.

Issued at Washington, DC on April 19, 2006.
Rachel M. Samuel,
Deputy Advisory Committee Management Officer.

[FR Doc. E6-6187 Filed 4-24-06; 8:45 am]

BILLING CODE 6405-01-P